DEPARTMENT OF HOMELAND SECURITY

U.S. Customs and Border Protection

Automated Commercial Environment (ACE) Becoming the Sole CBP-Authorized Electronic Data Interchange (EDI) System for Processing Duty Deferral Entry and Entry Summary Filings

AGENCY: U.S. Customs and Border Protection, Department of Homeland Security.

ACTION: General notice.

SUMMARY: On August 30, 2016, U.S. Customs and Border Protection (CBP) published a notice in the Federal Register announcing plans to make the Automated Commercial Environment (ACE) the sole electronic data interchange (EDI) system authorized by the Commissioner of CBP for processing electronic drawback and duty deferral entry and entry summary filings. The date for the changes announced in that notice had been delayed indefinitely. This notice announces the new date for the transition of duty deferral entry and entry summary filings. The transition for processing electronic drawback filings will be announced in the Federal Register at a later date.

DATES: As of September 16, 2017, ACE will be the sole CBP-authorized EDI system for processing duty deferral entry and entry summary filings, and the Automated Commercial System (ACS) will no longer be a CBP-authorized EDI system for processing these filings.

FOR FURTHER INFORMATION CONTACT: Questions related to this notice may be emailed to ASKACE@cbp.dhs.gov with the subject line identifier reading “ACS to ACE Duty Deferral Entry and Entry Summary Filings Transition.”

SUPPLEMENTARY INFORMATION: On August 30, 2016, U.S. Customs and Border Protection (CBP) published a notice in the Federal Register (81 FR 59644) announcing plans to make the Automated Commercial Environment (ACE) the sole electronic data interchange (EDI) system authorized by the Commissioner of CBP for processing electronic drawback and duty deferral entry and entry summary filings, with an effective date of October 1, 2016. The document also announced that, on October 1, 2016, the Automated Commercial System (ACS) would no longer be a CBP-authorized EDI system for purposes of processing these electronic filings. Finally, the notice announced a name change for the ACE filing code for duty deferral and the creation of a new ACE filing code for all electronic drawback filings, replacing the six distinct drawback codes previously filed in ACS. On October 3, 2016, CBP published a notice in the Federal Register (81 FR 68023) announcing that the effective date for these changes would be delayed until further notice. Thereafter, on December 12, 2016, CBP published a notice in the Federal Register (81 FR 89486) announcing that the new effective date for the transition would be January 14, 2017. On January 17, 2017, CBP published an additional notice in the Federal Register (82 FR 4900) delaying the effective date for the transition until further notice. Then, on June 8, 2017, CBP published a notice in the Federal Register (82 FR 26698) announcing that the new effective date for the transition would be July 8, 2017. Thereafter, on June 30, 2017, CBP published a notice in the Federal Register (82 FR 29910) delaying the effective date for the transition until further notice.

This notice announces that beginning September 16, 2017, ACE will become the sole CBP-authorized EDI system for duty deferral entry and entry summary filings, and ACS will no longer be a CBP-authorized EDI system for purposes of processing these electronic filings. The transition date for processing electronic drawback filings will be announced in a separate Federal Register Notice at a later date.

Dated: August 11, 2017.
Kevin K. McAleenan,
Acting Commissioner, U.S. Customs and Border Protection.

[FR Doc. 2017-17319 Filed 8-15-17; 8:45 am]

BILLING CODE 9111-14-P